DEPARTMENT OF JUSTICE

[OMB Number 1103-NEW]

Agency Information Collection Activities; Proposed collection; Comments Requested: CRS Customer Satisfaction Survey

ACTION: 60-Day notice of information collection under review.

The Department of Justice (DOJ), Community Relations Service (CRS) will be submitting the following information collection request to the Office of Management and Budget (OMB) for review and approval in accordance with the Paperwork Reduction Act of 1995. The proposed information collection is published to obtain comments from the public and affected agencies. Comments are encouraged and will be accepted for “sixty days” until July 2, 2012. This process is conducted in accordance with 5 CFR 1320.10.

If you have comments especially on the estimated public burden or associated response time, suggestions, or need a copy of the proposed information collection instrument with instructions or additional information, please contact Gilbert Moore, Deputy Director, Community Relations Service, 600 E Street NW., Suite 6000, Washington, DC 20530, Office phone (202) 305-2935.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Response to `Quality of Service' Survey.

(2) Title of the Form/Collection: CRS `Quality of Service' Survey.

(3) Agency form number, if any, and the applicable component of the Department of Justice sponsoring the collection: Form Number: CRS Community Relations Service.

(4) Affected public who will be asked or required to respond, as well as a brief abstract:

Primary: Local and state elected officials, heads of support service agencies as Police, Education, Human Relations agencies, heads of public advocacy organizations, and vested formal and informal community leaders. Abstract: The CRS `Customer Satisfaction Survey' will help CRS maintain the highest standards of professional conciliation and mediation work while also identifying new areas and programs of expertise needed to improve service deliverables to emerging community concerns.

(5) An estimate of the total number of respondents and the amount of time estimated for an average respondent to respond: It is estimated that 500 respondents will complete the form within approximately 15 minute.

(6) An estimate of the total public burden (in hours) associated with the collection: There are an estimated 125 annual total CRS burden hours associated with this collection.

If additional information is required contact: Jerri Murray, Department Clearance Officer, Policy and Planning Staff, Justice Management Division, Department of Justice, Two Constitution Square, 145 N Street NE., Room 2E-508, Washington, DC 20530.

Jerri Murray,
Department Clearance Officer, PRA, U.S. Department of Justice.

[FR Doc. 2012-10480 Filed 5-1-12; 8:45 am]

BILLING CODE 4410-17-P